NATIONAL CREDIT UNION ADMINISTRATION

Sunshine Act; Notice of Agency Meeting

TIME AND DATE: 10 a.m., Thursday, October 22, 2009.

PLACE: Board Room, 7th Floor, Room 7047, 1775 Duke Street, Alexandria, VA 22314-3428.

STATUS: Open.

MATTERS TO BE CONSIDERED: 1. Request from U.S. #1364 Federal Credit Union to Convert to a Community Charter.

2. Request from Kansas State Supervisory Authority for an Exemption from Section 712.3(d)(3) of NCUA's Rules and Regulations.

3. Final Rule—Part 745 of NCUA's Rules and Regulations, Share Insurance and Appendix.

4. Insurance Fund Report.

RECESS: 11:15 a.m.

TIME AND DATE: 11:30 a.m., Thursday, October 22, 2009.

PLACE: Board Room, 7th Floor, Room 7047, 1775 Duke Street, Alexandria, VA 22314-3428.

STATUS: Closed.

MATTERS TO BE CONSIDERED: 1. Consideration of Supervisory Activities (5). Closed pursuant to some or all of the following exemptions: (8), (9)(A)(ii) and 9(B).

2. Personnel. Closed pursuant to exemptions (2) and (6).

FOR FURTHER INFORMATION CONTACT: Mary Rupp, Secretary of the Board, Telephone: 703-518-6304.

Mary Rupp,
Secretary of the Board.

[FR Doc. E9-25195 Filed 10-15-09; 4:15 pm]

BILLING CODE 7535-01-P